DEPARTMENT OF THE INTERIOR

Bureau of Land Management

[WO-220-1020-BP-24 1A]

OMB Control Number 1004-0041; Information Collection Submitted to the Office of Management and Budget Under the Paperwork Reduction Act

The Bureau of Land Management (BLM) has submitted an extension of a currently approved collection to collect the information listed below to the Office of Management and Budget (OMB) under the provisions of the Paperwork Reduction Act (44 U.S.C. 3501 et seq.). On November 24, 2004, the BLM published a notice in the Federal Register (69 FR 68388) requesting comment on this information collection. The comment period ended on January 24, 2005. The BLM received no comments. You may obtain copies of the collection of information and related forms and explanatory material by contracting the BLM Information Collection Clearance Office at the telephone listed below.

The OMB must respond to this request within 60 days but may respond after 30 days. For maximum consideration your comments and suggestions on the requirements should be directed within 30 days to the Office of Management and Budget, Interior Department Desk Officer (1004-0041), at OMB-OIRA via facsimile to (202) 395-6566 or e-mail to OIRA_DOCKET@omb.eop.gov. Please provide a copy of your comments to the Bureau Information Collection Clearance Officer (WO-630), Bureau of Land Management, Eastern States Office, 7450 Boston Blvd., Springfield, Virginia 22153.

Nature of Comments: We specifically request your comments on the following:

1. Whether the collection of information is necessary for the proper functioning of the BLM, including whether the information will have practical utility;

2. The accuracy of BLM's estimate of the burden of collecting the information, including the validity of the methodology and assumptions used;

3. The quality, utility and clarity of the information we collect; and

4. How to minimize the burden of collecting the information on those who are to respond, including the use of appropriate automated electronic, mechanical, or other forms of information technology.

Title: Authorizing Grazing Use (43 CFR subparts 4110 and 4130).

OMB Control Number: 1004-0041.

Bureau Form Number:

Forms | 4130-1 | 4130-1a | 4130-1b | 4130-3a | 4130-4 | 4130-5
Annual # of Responses Filed | 6,000 | 6,000 | 6,000 | 7,689 | 600 | 15,000
Average Response Time | 20 min. | 15 min. | 15 min. | 14 min. | 20 min. | 25 min.
Annual Burden Hours | 2,000 | 1,500 | 1,500 | 1,794 | 200 | 6,250
Cost per Hour to Respondent | $20 | $20 | $20 | $20 | $20 | $20
Annual Cost | $40,000 | $30,000 | $30,000 | $35,880 | $4,000 | $125,000

Abstract: The BLM uses the information submitted by permittees and lessees to authorize grazing on public lands.

Frequency: Annually or as needed during the scheduled grazing periods.

Description of Respondents: Lessees and permittees.

Estimated Completion Time: Varies 15-25 minutes.

Annual Responses: 41,289.

Information Collection Cost Recovery Fee: $20.

Annual Burden Hours: 13,244.

Bureau Clearance Officer: Ian Senio, (202) 452-5033.

Dated: December 22, 2004.
Ian Senio,
Bureau of Land Management, Information Collection Clearance Officer.

[FR Doc. 05-2934 Filed 2-15-05; 8:45 am]

BILLING CODE 4310-84-M